DEPARTMENT OF ENERGY

Federal Energy Regulatory Commission

[Project No. 13421-000]

Dillon Dam Hydroelectric Project; Notice of Preliminary Permit Application Accepted for Filing and Soliciting Comments, Motions To Intervene, and Competing Applications

September 23, 2009.

On April 2, 2009, Muskingum Valley Hydro (Muskingum) filed an application, pursuant to section 4(f) of the Federal Power Act, proposing to study the feasibility of developing the Dillon Dam Hydroelectric Project, to be located on the Licking River in Muskingum County, near Zanesville, Ohio. The proposed project would be located at the U.S. Army Corps of Engineers Dillon Dam consisting of the existing 1,560-acre impoundment with a normal water surface elevation of 735 feet mean sea level.

The proposed project would consist of: (1) A new powerhouse to be located on the downstream side of Dillon dam below the outlet works; (2) a new 50-foot-long, 96-inch penstock; (3) a new turbine generator unit with an installed capacity of 1.59 MW; and (4) a new 300-foot-long, 14.7-kV transmission line. The project would have an estimated average annual generation of 9,700 megawatt-hours. Muskingum states that it will investigate various other types of hydroelectric generation at the site including Very Low Head Turbine technology.

Applicant Contact: Randall Smith, Muskingum Valley Hydro, 4950 Frazeysburg Road, Zanesville, Ohio 43701 (740) 891-5424.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13421) in the docket number field to access the document. For assistance, call toll-free 1-866-208-3372.

Kimberly D. Bose,
Secretary.

[FR Doc. E9-23517 Filed 9-29-09; 8:45 am]

BILLING CODE 6717-01-P